DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for licensing by the Department of the Navy. U.S. Patent Application Number 11/220,189 filed on September 01, 2005, Navy Case Number 76519 entitled “Method for Reducing Hazards”; U.S. Patent Application Number 12/136,427 filed on June 10, 2008, Navy Case Number 83687 entitled “System Analysis Modeling Apparatus and Method”; U.S. Patent Application Number 11/543,277 filed on October 06, 2006, Navy Case Number 84818 entitled “Method for Dyeing High Density Polyethylene Fiber Fabric”; U.S. Patent Application Number 11/499,977 filed on August 03, 2006, Navy Case Number 84935 entitled “Cleaning Device for Fiber Optic Connector”; U.S. Patent Application Number 11/805,263 filed on June 15, 2007, Navy Case Number 84998 entitled “Moveable Deck to Mitigate Effects of Shock”; U.S. Patent Application Number 11/264,336 filed on October 27, 2005, Navy Case Number 95904 entitled “Oleaginous Corrosion Resistant Composition”; U.S. Patent Application Number 11/586,750 filed October 05, 2006, Navy Case Number 96330 entitled “Gesture Recognition Apparatus and Method”; U.S. Patent Application Number 11/845,684 filed January 26, 2006, Navy Case Number 96334 entitled “Radially Compressive Rope Assembly”; U.S. Patent Application Number 11/973,986 filed October 15, 2007, Navy Case Number 97027 entitled “System for Isolating Faults between Electrical Equipment”; U.S. Patent Application Number 11/151,170 filed June 10, 2005, Navy Case Number 97040 entitled “Composition and Process for Removing and Preventing Mildew and Fungal Growth”; U.S. Patent Application Number 11/325,283 filed December 20, 2005, Navy Case Number 97473 entitled “Oleaginous Corrosion and Mildew-Inhibiting Composition”; U.S. Patent Application Number 11/345,686 filed January 26, 2006, Navy Case Number 97567 entitled “Corrosion Inhibiting Mildew Remover Kit”; U.S. Patent Application Number 11/900,143 filed on September 05, 2007, Navy Case Number 97946 entitled “Optical Bench Fiber Optic Transmitter”; U.S. Patent Application Number 12/185,985 filed on August 05, 2008, Navy Case Number 98005 entitled “Environmentally Assisted Processor in Sonar”; U.S. Patent Application Number 12/056,707 filed on March 28, 2008, Navy Case Number PAX03 entitled “Parachute Opening Shock Emulator (POSE)”; U.S. Patent Application Number 12/111,434 filed on April 30, 2008, Navy Case Number PAX04 entitled “Counter Measure Expendable Load Simulator”; U.S. Patent Application Number 12/114,063 filed on May 02, 2008, Navy Case Number PAX05 entitled “Variable Intensity LED Illumination System”; U.S. Patent Application Number 12/113,387 filed on May 01, 2008, Navy Case Number PAX08 entitled “Method and System for Alerting Aircrew to Unsafe Vibration Levels”; U.S. Patent Application Number 12/364,540 filed on February 03, 2009, Navy Case Number PAX12 entitled “Metal Rich Coatings Composition”; U.S. Patent Application Number 12/261,457 filed on October 30, 2008, Navy Case Number PAX16 entitled “Method of redundant Data Transmission for Reducing the Bill Error Rate”; U.S. Patent Number 5,721,632 entitled “Excited State Polarization Altering Optical Filter”, issued February 24, 1998; U.S. Patent Number 5,822,047 entitled “Modulator LIDAR System”, issued October 13, 1998; U.S. Patent Number 6,411,450 entitled “Method of Assessing the Effectiveness of a Laser Eye Protection Device”, issued June 25, 2002; U.S. Patent Number 6,557,570 entitled “Portable Apparatus for Cleaning a Conduit and Method for Cleaning a Conduit”, issued May 06, 2003”; U.S. Patent Number 7,430,152 entitled “System and Method of Operation thereof for Increasing Acoustic Bandwidth of Transmitting Device”, issued September 30, 2008; U.S. Patent Number 7,464,413 entitled “Rapid Release Mechanism for Textile Apparel Pockets (Receptacles) and Packs (Stowage Receptacles)” issued December 16, 2008.

ADDRESSES: Request for data and inventor interviews should be director to Mr. Paul Fritz, Naval Air Warfare Center Aircraft Division, Business Office, Office of Research and Technology Applications, Building 505, 22473 Millstone Road, Patuxent River, MD 20670, telephone number: 301-342-5586 or e-mail Paul.Fritz@navy.mil.

DATES: Request for data, samples, and inventor interviews should be made prior to April 5, 2009.

FOR FURTHER INFORMATION CONTACT: Mr. Paul Fritz, Office of Research and Technology Applications, Building 505, Naval Air Warfare Center Aircraft Division, 22473 Millstone Road, Patuxent River, MD 20670, telephone number: 301-342-5586, Paul.Fritz@navy.mil.

SUPPLEMENTARY INFORMATION: The U.S. Navy intends to move expeditiously to license these inventions. All licensing application packages and commercialization plans must be returned to Naval Air Warfare Center Aircraft Division, Business Office, Office of Research and Technology Applications, Building 505, 22473 Millstone Road, Patuxent River, MD 20670.

The Navy, in its decisions concerning the granting of licenses, will give special consideration to existing licensee's, small business firms, and consortia involving small business firms. The Navy intends to ensure that its licensed inventions are broadly commercialized throughout the United States.

PCT application may be filed for each of the patents as noted above. The Navy intends that licensees interested in a license in territories outside of the United States will assume foreign prosecution and pay the cost of such prosecution.

Authority: (35 U.S.C. 207, 37 CFR Part 404.)

Dated: February 10, 2009.
A.M. Vallandingham,
Lieutenant Commander, Judge Advocate General's Corps, U.S. Navy, Federal Register Liaison Officer.

[FR Doc. E9-3362 Filed 2-13-09; 8:45 am]

BILLING CODE 3810-FF-P